DEPARTMENT OF COMMERCE

International Trade Administration

[A-570-601]

Tapered Roller Bearings and Parts Thereof, Finished and Unfinished, From the People's Republic of China: Notice of Court Decision Not in Harmony With Final Results of Administrative Review and Notice of Second Amended Final Results of Administrative Review Pursuant to Court Decision

AGENCY: Enforcement and Compliance, International Trade Administration, Department of Commerce.

SUMMARY: On June 16, 2015, the United States Court of International Trade (“CIT”) issued its final judgment vacating its decision in Peer Bearing Co.—Changshan v. United States, 853 F. Supp. 2d 1365 (CIT 2013) (“CPZ II”), and re-instating the Department of Commerce's (the “Department”) first redetermination issued on remand (“First Remand Redetermination”) ¹ with respect to the Department's final results of the 2006-2007 antidumping duty administrative review of tapered roller bearings and parts thereof, finished and unfinished from the People's Republic of China.² Consistent with the decision of the United States Court of Appeals for the Federal Circuit (“CAFC”) in Timken Co. v. United States, 893 F.2d 337 (Fed. Cir. 1990) (“Timken”), as clarified by Diamond Sawblades Mfrs. Coalition v. United States, 626 F.3d 1374 (Fed. Cir. 2010) (“Diamond Sawblades”), the Department is notifying the public that the final judgment in this case is not in harmony with the Department's amended final results of review ³ and is amending the Amended Final Results of review with respect to the margin determined for Peer Bearing Company—Changshan (“CPZ”), an exporter and producer of subject merchandise.

¹ On May 23, 2011, the Department issued its Draft Results of Redetermination Pursuant to Court Remand, and on July 1, 2011, it issued its Final Results of Redetermination Pursuant to Remand (July 1, 2011).

² See Peer Bearing Co.—Changshan v. United States, Court No. 09-00052, Slip Op. 15-61 (CIT 2015) (“CIT's Final Order”).

³ See Tapered Roller Bearings and Parts Thereof, Finished and Unfinished, From the People's Republic of China: Final Results of Antidumping Duty Administrative Review, 74 FR 3987 (January 22, 2009) (“Final Results”), as amended, Tapered Roller Bearings from the People's Republic of China: Notice of Court Decision Not in Harmony With Final Results of Administrative Review and Notice of Amended Final Results of Administrative Review, 78 FR 58996 (September 25, 2013) (“Amended Final Results”).

DATES: Effective Date: June 26, 2015.

FOR FURTHER INFORMATION CONTACT: Brendan Quinn, Office III, Enforcement and Compliance, International Trade Administration, U.S. Department of Commerce, 14th Street and Constitution Avenue NW., Washington, DC 20230; telephone: (202) 482-5848.

SUPPLEMENTARY INFORMATION: Subsequent to the publication of the Final Results, CPZ filed a complaint with the CIT challenging the methodology used to determine its margin in the Final Results.

On January 28, 2011, the CIT issued a remand order to the Department, instructing it, among other things, to: (1) Redetermine the margin for CPZ based on redetermined U.S. prices of CPZ's subject merchandise that are calculated according to a method that complies with law; and (2) review, reconsider, and redetermine the surrogate values for alloy steel wire rod, alloy steel bar, and scrap from the production of cages.⁴ On July 1, 2011, the Department issued its First Remand Redetermination. On August 2, 2012, the CIT issued its decision in CPZ II,⁵ setting aside the Department's First Remand Redetermination as contrary to law; and instructing it to prepare a second remand redetermination to: (1) Determine the U.S. prices for CPZ's subject merchandise according to a lawful method and in accordance with the CIT's current and prior opinion and orders in this case; and, (2) review, reconsider, and redetermine the surrogate values for alloy steel wire rod, alloy steel bar, and scrap from the production of cages in accordance with the CIT's prior opinion and order in this case. The Department issued its draft remand results on September 7, 2012, and its Final Results of Redetermination Pursuant to Court Remand on October 2, 2012 (“Second Remand Redetermination”). On August 30, 2013, the CIT sustained the Department's Second Remand Redetermination (“CPZ III”).⁶ The Department accordingly amended its Final Results effective September 9, 2013.⁷

⁴ See Peer Bearing Co.—Changshan v. United States, 752 F. Supp. 2d 1353 (CIT 2011) (“CPZ I”).

⁵ See CPZ II.

⁶ Peer Bearing Co.—Changshan v. United States, Court No. 09-00052, Slip. Op. 13-116 (CIT 2013) (“CPZ III”)

⁷ See Amended Final Results.

The Timken Company (“Timken”), an intervening domestic bearing producer, and petitioner in the underlying investigation, appealed the CIT's decision to the CAFC. On September 12, 2014, the CAFC ruled that the Department's application of adverse facts available in its First Remand Redetermination was supported by substantial evidence.⁸ As a consequence, it vacated the CIT's decision in CPZ III and ruled that on remand, the CIT should reinstate the Department's application of adverse facts available and its calculation of CPZ's margin in its First Remand Redetermination.⁹ As noted above, on June 15, 2015, the CIT issued its final judgment vacating its decision in CPZ II and re-instating the Department's First Remand Redetermination.¹⁰

⁸ See Peer Bearing Co.—Changshan v. United States, 766 F.3d 1396, 1401 (CAFC 2014).

⁹ Id., at 1401.

¹⁰ See CIT's Final Order.

Timken Notice

In its decision in Timken, 893 F.2d at 341, as clarified by Diamond Sawblades, the CAFC held that, pursuant to section 516A(e) of the Tariff Act of 1930, as amended (“the Act”), the Department must publish a notice of a court decision that is not “in harmony” with a Department determination and must suspend liquidation of entries pending a “conclusive” court decision. The CIT's June 16, 2015, judgment in this case constitutes a final decision of that court that is not in harmony with the Department's Amended Final Results. This notice is published in fulfillment of the publication requirements of Timken.

Amended Final Results

Because there is now a final court decision with respect to this case, the Department is amending the Amended Final Results with respect to CPZ's weighted-average dumping margin, effective June 26, 2015. The revised dumping margin is as follows:

Exporter | Percent margin
Peer Bearing Company Changshan (“CPZ”) | 60.95

In the event the CIT's ruling is not appealed or, if appealed, upheld by the CAFC, the Department will instruct U.S. Customs and Border Protection to liquidate entries of subject merchandise based on the revised assessment rates calculated by the Department.

Cash Deposit Requirements

Since the Final Results, in September 2008, CPZ was acquired by AB SKF, and the Department determined via a successor-in-interest analysis that the post-acquisition, SKF-owned entity, Changshan Peer Bearing was not the successor in interest of CPZ.¹¹ As a consequence, CPZ no longer exists, and its cash deposit rate does not need to be updated as a result of these second amended final results.

¹¹ See Tapered Roller Bearings and Parts Thereof, Finished and Unfinished, From the People's Republic of China: Final Results of the 2008-2009 Antidumping Duty Administrative Review, 76 FR 3086 (January 19, 2011).

Notification to Interested Parties

This notice is issued and published in accordance with sections 516A(e), 751(a)(1), and 777(i)(1) of the Act.

Dated: July 9, 2015.
Paul Piquado,
Assistant Secretary for Enforcement and Compliance.

[FR Doc. 2015-17486 Filed 7-15-15; 8:45 am]

BILLING CODE